COMMITTEE FOR THE IMPLEMENTATION OF TEXTILE AGREEMENTS

Determination Under the Textile and Apparel Commercial Availability Provision of the Dominican Republic-Central America-United States Free Trade Agreement (“CAFTA-DR Agreement”)

AGENCY: The Committee for the Implementation of Textile Agreements.

ACTION: Determination to add a product in unrestricted quantities to Annex 3.25 of the CAFTA-DR Agreement.

SUMMARY: The Committee for the Implementation of Textile Agreements (“CITA”) has determined that certain two-way stretch polyester/rayon/spandex twill weave fabric, as specified below, is not available in commercial quantities in a timely manner in the CAFTA-DR countries. The product will be added to the list in Annex 3.25 of the CAFTA-DR Agreement in unrestricted quantities.

DATES: Effective: May 10, 2017.

FOR FURTHER INFORMATION CONTACT: Maria Goodman, Office of Textiles and Apparel, U.S. Department of Commerce, (202) 482-3651.

For Further Information On-Line: http://web.ita.doc.gov/tacgi/CaftaReqTrack.nsf under “Approved Requests,” Reference number: 209.2017.04.03.Fabric.ST&RforMedline.

SUPPLEMENTARY INFORMATION:

Authority: The CAFTA-DR Agreement; Section 203(o)(4) of the Dominican Republic-Central America-United States Free Trade Agreement Implementation Act (“CAFTA-DR Implementation Act”), Pub. Law 109-53; the Statement of Administrative Action, accompanying the CAFTA-DR Implementation Act; and Presidential Proclamation 7987 (February 28, 2006).

Background

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25.4 and 3.25.5, when the President of the United States determines that a fabric, yarn, or fiber is not available in commercial quantities in a timely manner in the territory of any Party. See Annex 3.25 of the CAFTA-DR Agreement; see also section 203(o)(4)(C) of the CAFTA-DR Implementation Act.

The CAFTA-DR Implementation Act requires the President to establish procedures governing the submission of a request and providing opportunity for interested entities to submit comments and supporting evidence before a commercial availability determination is made. In Presidential Proclamations 7987 and 7996, the President delegated to CITA the authority under section 203(o)(4) of CAFTA-DR Implementation Act for modifying the Annex 3.25 list. Pursuant to this authority, on September 15, 2008, CITA published modified procedures it would follow in considering requests to modify the Annex 3.25 list of products determined to be not commercially available in the territory of any Party to CAFTA-DR (Modifications to Procedures for Considering Requests Under the Commercial Availability Provision of the Dominican Republic-Central America-United States Free Trade Agreement, 73 FR 53200) (“CITA's procedures”).

On April 3, 2017, the Chairman of CITA received a request for a Commercial Availability determination (“Request”) from Sandler, Travis and Rosenberg, P.A., on behalf of Medline Industries, Inc. for certain two-way stretch polyester/rayon/spandex twill weave fabric. On April 4, 2017, in accordance with CITA's procedures, CITA notified interested parties of the Request, which was posted on the dedicated Web site for CAFTA-DR Commercial Availability proceedings. In its notification, CITA advised that any Response with an Offer to Supply (“Response”) must be submitted by April 17, 2017, and any Rebuttal Comments to a Response must be submitted by April 21, 2017, in accordance with sections 6 and 7 of CITA's procedures. No interested entity submitted a Response to the Request advising CITA of its objection to the Request and its offer to supply the subject product.

In accordance with section 203(o)(4)(C) of the CAFTA-DR Implementation Act, and section 8(c)(2) of CITA's procedures, as no interested entity submitted a Response objecting to the Request and providing an offer to supply the subject product, CITA has determined to add the specified fabric to the list in Annex 3.25 of the CAFTA-DR Agreement.

The subject product has been added to the list in Annex 3.25 of the CAFTA-DR Agreement in unrestricted quantities. A revised list has been posted on the dedicated Web site for CAFTA-DR Commercial Availability proceedings, at http://otexa.trade.gov/caftaannex325.htm.

Specifications: Two-way Stretch Polyester/Rayon/Spandex Twill Weave Fabric

HTS: 5515.11.00

Fiber Content: 69-75% polyester; 20-26% rayon, 2-8% spandex

Warp: Plied polyester/rayon staple with spandex filament

Filling: Plied textured polyester filament with spandex filament

Thread count: 47.2-51.2 warp ends per linear cm (120-130 warp ends per linear inch); 35.43-39.37 filling ends per linear cm (90-100 filling ends per linear inch)

Fabric weight: 194 to 206 grams per meter squared (5.7 to 6.1 ounces per square yard)

Finishing process: Softened

Coloration: Piece dyed, yarn dyed, bleached and printed

Performance Criteria

Dimensional Stability/Shrinkage (AATCC 135): +/−3%

Colorfastness to Laundering (AATCC 61): >/= 4.0 color change; >/= 3.5 staining for light colors (3.0 for dark colors)

Colorfastness to Crocking (AATCC 8): >/= 4.0 dry; >/= 3 wet for light colors (2.5 for dark colors).

Note: The yarn size designations describe a range of yarn specifications for yarn before knitting, dyeing and finishing of the fabric. They are intended as specifications to be followed by the mill in sourcing yarn used to produce the fabric. Dyeing, finishing and knitting can alter the characteristic of the yarn as it appears in the finished fabric. This specification therefore includes yarn sizes provided that the variation occurs after processing of the greige yarn and production of the fabric. The specifications for the fabric apply to the fabric itself prior to cutting and sewing of the finished garment. Such processing may alter the measurements.

Terry Labat,
Acting Chairman, Committee for the Implementation of Textile Agreements.

[FR Doc. 2017-09430 Filed 5-9-17; 8:45 am]

BILLING CODE 3510-DR-P